ENVIRONMENTAL PROTECTION AGENCY

40 CFR Part 141

[FRL-7247-6]

RIN 2040-AD61

Announcement of Preliminary Regulatory Determinations for Priority Contaminants on the Drinking Water Contaminant Candidate List

AGENCY: Environmental Protection Agency.

ACTION: Proposed rule; correction.

SUMMARY: The Environmental Protection Agency (EPA) published a document in the Federal Register of June 3, 2002, announcing the preliminary regulatory determinations for priority contaminants on the Drinking Water Contaminant Candidate List. EPA inadvertently included the incorrect docket number in the ADDRESSES section. The correct docket number is W-01-03.

FOR FURTHER INFORMATION CONTACT: Harriet T. Corbett-Colbert, 202-564-4698.

Correction

The Addresses caption in the Federal Register document of June 3, 2002, Vol. 67, No. 106, page 38223, first column, should have read:

ADDRESSES: Please send your comments to the W-01-03 Comments Clerk. Submit electronic comments to: ow-docket@epa.gov. Written comments should be mailed to: Water Docket (MC-4101), U.S. Environmental Protection Agency, 1200 Pennsylvania Avenue, NW., Washington, DC 20460. Hand deliveries should be delivered to EPA's Water Docket at East Tower Basement (EB Room 57), Waterside Mall, 401 M Street, SW, Washington, DC 20460. You may contact the docket at (202) 260-3027 between 9 a.m. and 3:30 p.m. Eastern Time, Monday through Friday. Comments may be submitted electronically. See SUPPLEMENTARY INFORMATION for file formats and other information about electronic filing and docket review.

This correction notice will not extend the comment period. The comment period ends on August 2, 2002. All comments received under the incorrect docket number will be directed to the appropriate Comments Clerk.

Dated: July 11, 2002.
Cynthia C. Dougherty,
Director, Office of Ground Water and Drinking Water.

[FR Doc. 02-18146 Filed 7-16-02; 8:45 am]

BILLING CODE 6560-50-P